DEPARTMENT OF ENERGY

Comment Period Extension and Additional Public Scoping Meetings for an Environmental Impact Statement for the Alignment, Construction, and Operation of a Rail Line to a Geologic Repository at Yucca Mountain, Nye County, Nevada; Correction

AGENCY: Department of Energy.

ACTION: Notice of Comment Period Extension and Additional Public Meetings; correction.

SUMMARY: The Department of Energy published a document in the Federal Register of April 26, 2004, concerning the additional scoping meetings to be held in support of the Rail Alignment EIS. The document contained an incorrect date and location for the Las Vegas, NV scoping meetings.

FOR FURTHER INFORMATION CONTACT: Robin Sweeney at 1-800-967-3477.

Correction

In the Federal Register of April 26, 2004, in FR Vol 69, No. 80, on Page 22496, in the first column, correct the date and location for the Las Vegas, NV scoping meeting to read: Las Vegas, Nevada. Cashman Center, Rooms 103-106, 850 Las Vegas Blvd. North, May 17, 2004, from 4-8 p.m.

Dated: April 26, 2004.
Margaret S.Y. Chu,
Director, Office of Civilian Radioactive Waste Management.

[FR Doc. 04-9719 Filed 4-27-04; 8:45 am]

BILLING CODE 6450-01-P